DEPARTMENT OF AGRICULTURE

Office of the Secretary

Notice of New, Revised, Consolidated, and Deleted Systems of Records

AGENCY: Office of the Secretary, USDA.

ACTION: Notice of consolidating and revising four systems of records, deleting two systems of records, and adding a proposed new system of records under the Privacy Act of 1974.

SUMMARY: Notice is hereby given that the U.S. Department of Agriculture (USDA) is deleting two systems of records, consolidating two systems of records into one existing system of records; revising two systems of records; and proposing to create a new system of records entitled, “Census of Agriculture Records,” USDA/NASS-3, maintained by the National Agricultural Statistics Service (NASS).

DATES: Effective Date: This notice will be effective 40 days after publication June 26, 2009 unless modified by a subsequent notice to incorporate public comment. Comments must be received on or before comment date: May 27, 2009.

ADDRESSES: Comments may be submitted by any of the following methods: E-mail: ombofficer@nass.usda.gov. Include system of records number in the subject line of the message; Fax: (202) 720-6396; Mail: Mail any paper, disk, or CD-ROM to: NASS Clearance Officer, USDA, Room 5336A South Building, 1400 Independence Avenue, SW., Washington, DC 20250-2024; Hand Delivery/Courier: NASS Clearance Officer, USDA, Room 5336A South Building, 1400 Independence Avenue, SW., Washington, DC 20250-2024; Telephone (202) 690-2388.

FOR FURTHER INFORMATION CONTACT: Jack Nealon, Director, Information Technology Division, NASS, USDA, South Agriculture Building, Mail Stop 2030, Room 5847, 1400 Independence Avenue, SW., Washington, DC 20250-2024; Telephone (202) 720-2984.

SUPPLEMENTARY INFORMATION: Pursuant to the Privacy Act of 1974 (5 U.S.C. 552a), USDA hereby takes the following action:

I. Two systems of records, USDA/NASS-1, “Administrative Records Systems” and USDA/NASS-3, “Personnel Data Base,” are being deleted. These systems of records are duplicated by OPM/GOVT-1, “General Personnel Records,” and USDA/OP-1, “Personnel and Payroll System for USDA Employees.”

II. Two systems of records maintained by NASS are being consolidated into one existing system of records. USDA/NASS-4, “Agricultural Labor Survey,” and USDA/NASS-6, “Farm Costs and Returns Survey,” will be combined with USDA/NASS-2, “Agricultural Survey Program,” which will be redesignated USDA/NASS-1, “Agricultural Survey Records.”

III. Two systems of records maintained by NASS are being revised for the following reasons:

1. USDA/NASS-2, “Agricultural Survey Program.” The purposes of this revision to the system of records are to (1) change the designation from USDA/NASS-2, “Agricultural Survey Program” to USDA/NASS-1, “Agricultural Survey Records;” (2) consolidate the records of USDA/NASS-4, “Agricultural Labor Survey” and USDA/NASS-6, “Farm Costs and Returns Survey;” (3) change responsibility for maintaining these records; (4) revise categories of individuals covered and records maintained; (5) propose new routine uses; (6) revise policies and practices for storing, retrieving, accessing, retaining, and disposing of records in the system; and (7) add an additional authority for maintenance of the system. These changes are necessary because data are no longer maintained by Martin Marietta but maintained at the USDA National Information Technology Center (NITC), and at the Bureau of Census, National Processing Center (NPC). Also, retention and disposal are now based on National Archives and Records Administration (NARA) approved schedules.

2. USDA/NASS-5, “List Sampling Frame.” The purposes of this revision to the system of records are to (1) change the designation from USDA/NASS-5 to USDA/NASS-2; (2) change responsibility for maintaining these records; (3) revise categories of individuals covered and records maintained; (4) propose new routine uses; (5) revise policies and practices for storing, retrieving, accessing, retaining, and disposing of records in the system; and (6) add an additional authority for maintenance of the system. These changes are necessary because data formerly maintained at local NASS Field Offices and Martin Marietta are now at the USDA National Information Technology Center (NITC). Also, retention and disposal are now based on NARA approved schedules.

IV. One system of records is being added as follows:

1. USDA/NASS-3, “Census of Agriculture Records.” This new system of records is in support of the Census of Agriculture now being conducted by the Agency every five years. As required by 5 U.S.C. 552a as implemented by Office of Management and Budget (OMB) Circular A-130, Privacy Act Systems Reports relating to the revision, consolidation, and deletion of existing systems and the addition of a new system were sent to the Chairman, Committee on Homeland Security and Governmental Affairs, United States Senate; the Chairman, Committee on Oversight and Governmental Reform, U.S. House of Representatives; and the Administrator, Office of Information and Regulatory Affairs, OMB.

Dated: April 20, 2009.
Thomas J. Vilsack,
Secretary.

USDA/NASS-1

System Name: Agricultural Survey Records, USDA/NASS-1.

Security Classification: None.

System Location:

Agricultural survey records are located at the following sites:

NASS Headquarters, 1400 Independence Avenue, SW., Washington, DC 20250,

USDA National Information Technology Center (NITC) facility at 8930 Ward Parkway, Kansas City, MO 64114,

U.S. Census Bureau National Processing Center (NPC) facility at 1201 East 10th Street, Jeffersonville, IN 47132,

NASS Field Offices.

The address of each Field Office (FO) is listed in telephone directories of the respective cities under the heading “United States Government, Department of Agriculture, National Agricultural Statistics Service (NASS),” or “USDA's NASS (State) Field Office.”

Categories of Individuals Covered by the System: Farm and ranch operators and agri-businesses.

Categories of Records in the System: Information on farm and ranch operators and agri-businesses includes name, address, telephone number, and agricultural survey data.

Authority for Maintenance of the System: 7 U.S.C. 2204, 7 U.S.C. 2276, 44 U.S.C. 3501, and the Confidential Information Protection and Statistical Efficiency Act (CIPSEA) of 2002.

Agency Official Responsible for System of Record:

Associate Administrator, National Agricultural Statistics Service, 1400 Independence Avenue, SW., Washington, DC 20250.

Purpose(s): The Agricultural Survey Records system provides effective and efficient electronic survey management, data entry, data collection, data editing, data analysis, and data summarization or tabulation for hundreds of agricultural surveys annually. These surveys cover topics such as crop production, grain stocks, livestock inventories, prices paid and received by farmers and ranchers, farm labor, farm income, farm expenditures, farm numbers, chemical usage, and special follow-on surveys to the Census of Agriculture. The program generates county, State, regional, and national agricultural statistics.

Disclosure of Information: Disclosure may be made only to sworn NASS employees for the purpose of compiling statistical aggregates at the county, State, regional, and national levels. Data records maintained by NASS are used solely for statistical purposes and are confidential under 7 U.S.C. 2204, 7 U.S.C. 2276, and CIPSEA of 2002. Publications and special summaries do not contain data that would divulge the identity of any individual operator or agri-business.

Routine Use of Records: To the extent that disclosure will not violate any confidentiality statutes, disclosure will be made to appropriate agencies, entities, and persons if (1) NASS suspects or has confirmed that the security or confidentiality of information in the system of records has been compromised; (2) NASS has determined that as a result of the suspected or confirmed compromises, there is a risk of harm to economic or property interests, identity theft or fraud, or harm to the security or integrity of this system or other systems or programs (whether maintained by NASS or another entity) that rely upon the compromised information; and (3) the disclosure made to such agencies, entities, and persons is reasonably necessary to assist in connection with NASS' efforts to respond to the suspected or confirmed compromise and prevent, minimize, or remedy such harm.

Additionally, this system provides for a routine use disclosure to agency contractors who have been engaged by NASS to assist in the performance of services related to this system of records and who need access to the records in order to perform the activity. Recipients shall be required to comply with the requirements of the Privacy Act of 1974, as amended, pursuant to 5 U.S.C. 552a(m).

Disclosure to Consumer Reporting Agencies: None.

Policies and Practices for Storing, Retrieving, Accessing, Retaining, and Disposing of Records in the System

Storage: Paper copies are stored inside at the locations identified above. Electronic survey data are stored on NASS and NITC file servers. Some survey paper questionnaires are converted to electronic format at NPC and stored locally on NPC servers. Backup data are stored on magnetic tapes.

Retrievability: Data are retrieved by unique identification numbers internal to the agency.

Safeguards: All NASS employees are required to sign a pledge of confidentiality that carries severe legal penalties for violating the pledge. NASS employs physical security controls, logical access controls, technological controls, auditing, and monitoring of controls. Paper questionnaires are stored inside locked file cabinets. Magnetic backup tapes and file servers are secured within areas to which access is limited to authorized personnel only. The NASS Memorandums of Understanding with NPC and NITC contain provisions for (1) network data confidentiality, integrity, and availability, and (2) physical security.

Retention and Disposal: Retention and disposal practices are in accordance with approved National Archives and Records Administration (NARA) schedules.

System Manager(s) and Address: Director, Census and Survey Division, National Agricultural Statistics Service, 1400 Independence Avenue, SW., Washington, DC 20250.

Notification Procedure: Any individual may request information as to whether the system contains records pertaining to him or her by contacting the system manager at the address specified above. The request for information should contain name, address, system of records name, and year that the agricultural survey questionnaire was completed.

Record Access Procedures: Same as notification procedure.

Contesting Record Procedures: Any individual may obtain information as to the procedures for contesting a record in this system which pertains to him or her by submitting a request to the system manager specified above.

Record Source Categories: Information in this system comes solely from respondents to NASS agricultural surveys.

Exemptions Claimed for the System: None.

USDA/NASS-2

System Name: List Sampling Frame, USDA/NASS-2.

Security Classification: None.

System Location: List sampling frame records are located at the USDA National Information Technology Center (NITC) facility at 8930 Ward Parkway, Kansas City, MO 64114.

Categories of Individuals Covered by the System: Current, recent, and potential farmers, ranchers, and agri-businesses.

Categories of Records in the System: Information on farmers, ranchers, and agri-businesses includes: name, address, telephone number, age, race or ethnic origin, gender, Social Security Number, Employer Identification Number, and some previous survey or census data (called control data) for efficiently selecting agricultural samples.

Authority for Maintenance of the System: 7 U.S.C. 2204, 7 U.S.C. 2276, 44 U.S.C. 3501, and the Confidential Information Protection and Statistical Efficiency Act (CIPSEA) of 2002.

Agency Official Responsible for System of Record:

Associate Administrator, National Agricultural Statistics Service, 1400 Independence Avenue, SW., Washington, DC 20250.

Purpose(s): The list sampling frame is used to provide samples of farms, ranches, and agri-businesses for the NASS annual survey program and to provide the mail list for the Census of Agriculture every 5 years. The frame is securely maintained on a database server. The Social Security Number and Employer Identification Number are used to assist in identifying duplication of names between various probability list samples and NASS area frame surveys. They are also used as part of the NASS list building and maintenance process when matching names currently on the NASS list sampling frame with lists maintained by other governmental agencies.

Disclosure of Information: Disclosure may be made only to sworn NASS employees for the purpose of compiling statistical aggregates at the county, State, regional, and national levels. Data records maintained by NASS are used solely for statistical purposes and are confidential under 7 U.S.C. 2204, 7 U.S.C. 2276, and CIPSEA of 2002. Publications and special summaries do not contain data that would divulge the identity of any individual operator or agri-business.

Routine Use of Records: To the extent that disclosure will not violate any confidentiality statutes, disclosure will be made to appropriate agencies, entities, and persons if (1) NASS suspects or has confirmed that the security or confidentiality of information in the system of records has been compromised; (2) NASS has determined that as a result of the suspected or confirmed compromise there is a risk of harm to economic or property interests, identity theft or fraud, or harm to the security or integrity of this system or other systems or programs (whether maintained by NASS or another entity) that rely upon the compromised information; and (3) the disclosure made to such agencies, entities, and persons is reasonably necessary to assist in connection with NASS' efforts to respond to the suspected or confirmed compromise and prevent, minimize, or remedy such harm.

Additionally, this system provides for a routine use disclosure to agency contractors who have been engaged by NASS to assist in the performance of services related to this system of records and who need access to the records in order to perform the activity. Recipients shall be required to comply with the requirements of the Privacy Act of 1974, as amended, pursuant to 5 U.S.C. 552a(m).

Disclosure to Consumer Reporting Agencies: None.

Policies and Practices for Storing, Retrieving, Accessing, Retaining, and Disposing of Records in the System

Storage: Machine readable name, address, and control data are located at the USDA NITC facility in Kansas City, MO. Data backups are stored on magnetic tapes also located at the NITC facility.

Retrievability: Data are retrieved by unique identification numbers internal to the agency. List sampling frame records are indexed by a record identifier assigned by each NASS Field Office. Each record also can be accessed by its Social Security Number.

Safeguards: All NASS employees are required to sign a pledge of confidentiality that carries severe legal penalties for violating the pledge. NASS employs physical security controls, logical access controls, technological controls, auditing, and monitoring of controls. Magnetic backup tapes stored at NITC are secured within areas to which access is limited to authorized personnel only. The NASS Memorandum of Understanding with NITC contains provisions for (1) network data confidentiality, integrity, and availability and (2) physical security.

Retention and Disposal: Retention and disposal practices are in accordance with approved National Archives and Records Administration schedules.

System Manager(s) and Address: Director, Census and Survey Division, National Agricultural Statistics Service, 1400 Independence Avenue, SW., Washington, DC 20250.

Notification Procedure: Any individual may request information as to whether the system contains records pertaining to him or her by contacting the system manager at the address specified above. The request for information should contain name, address, and system of records name.

Record Access Procedures: Same as notification procedure.

Contesting Record Procedures: Any individual may obtain information as to the procedures for contesting a record in this system which pertains to him or her by submitting a request to the system manager specified above.

Record Source Categories: Names to update the list sampling frame are assembled from a variety of sources. Data collected by NASS from the Agricultural Survey Program and Census of Agriculture are also used to update the list sampling frame records.

Exemptions Claimed for the System: None.

USDA/NASS-3

System Name: Census of Agriculture Records, USDA/NASS-3.

Security Classification: None.

System Location:

Census of Agriculture records are located at the following sites:

NASS Headquarters, 1400 Independence Avenue, SW., Washington, DC 20250,

USDA National Information Technology Center (NITC) facility at 8930 Ward Parkway, Kansas City, MO 64114,

U.S. Census Bureau National Processing Center (NPC) facility at 1201 East 10th Street, Jeffersonville, IN 47132.

Categories of Individuals Covered by the System: Farm and ranch operators.

Categories of Records in the System: Information on farm and ranch operators includes name, address, telephone number, age, race or ethnic origin, gender, and census agricultural data.

Authority for Maintenance of the System: 7 U.S.C. 2204g, 7 U.S.C. 2276, 44 U.S.C. 3501, and the Confidential Information Protection and Statistical Efficiency Act (CIPSEA) of 2002.

Agency Official Responsible for System of Record:

Associate Administrator, National Agricultural Statistics Service, 1400 Independence Avenue, SW., Washington, DC 20250.

Purpose(s): The Census of Agriculture, conducted every 5 years, measures the economic well-being of farm and ranch operators. This is achieved by collecting, tabulating, and analyzing data on a range of agricultural issues such as crop production, livestock inventories, labor costs, farm-related expenses, assets, and income to provide county, State, regional, and national agricultural statistics.

Disclosure of Information: Disclosure may be made only to sworn NASS employees for the purpose of compiling statistical aggregates at the county, State, regional, and national levels. Data records maintained by NASS are used solely for statistical purposes and are confidential under 7 U.S.C. 2204, 7 U.S.C. 2276, and CIPSEA of 2002. Publications and special summaries do not contain data that would divulge the identity of any individual operator or agri-business.

Routine Use of Records: To the extent that disclosure will not violate any confidentiality statutes, disclosure will be made to appropriate agencies, entities, and persons if (1) NASS suspects or has confirmed that the security or confidentiality of information in the system of records has been compromised; (2) NASS has determined that as a result of the suspected or confirmed compromise there is a risk of harm to economic or property interests, identity theft or fraud, or harm to the security or integrity of this system or other systems or programs (whether maintained by NASS or another entity) that rely upon the compromised information; and (3) the disclosure made to such agencies, entities, and persons is reasonably necessary to assist in connection with NASS' efforts to respond to the suspected or confirmed compromise and prevent, minimize, or remedy such harm.

Additionally, this system provides for a routine use disclosure to agency contractors who have been engaged by NASS to assist in the performance of services related to this system of records and who need access to the records in order to perform the activity. Recipients shall be required to comply with the requirements of the Privacy Act of 1974, as amended, pursuant to 5 U.S.C. 552a(m).

Disclosure to Consumer Reporting Agencies: None.

Policies and Practices for Storing, Retrieving, Accessing, Retaining, and Disposing of Records in the System

Storage: Census paper questionnaires are converted into electronic format at NPC and stored locally on NPC servers. Electronic copies are transmitted to NASS servers located at NITC for storage and processing. Data backups are stored on magnetic tapes.

Retrievability: Data are retrieved by unique identification numbers internal to the agency.

Safeguards: All NASS employees are required to sign a pledge of confidentiality that carries severe legal penalties for violating the pledge. NASS employs physical security controls, logical access controls, technological controls, auditing, and monitoring of controls. Paper questionnaires at NPC are stored inside secured spaces. Magnetic backup tapes stored at NITC and NPC are secured within areas to which access is limited to authorized personnel only. The NASS Memorandums of Understanding with NPC and NITC contain provisions for (1) network data confidentiality, integrity, and availability, and (2) physical security.

Retention and Disposal: Retention and disposal practices are in accordance with approved National Archives and Records Administration schedules.

System Manager(s) and Address: Director, Census and Survey Division, National Agricultural Statistics Service, 1400 Independence Avenue, SW., Washington, DC 20250.

Notification Procedure: Any individual may request information as to whether the system contains records pertaining to him or her by contacting the system manager at the address specified above. The request for information should contain name, address, system of records name, and year that the Census of Agriculture questionnaire was completed.

Record Access Procedures: Same as notification procedure.

Contesting Record Procedures: Any individual may obtain information as to the procedures for contesting a record in this system which pertains to him or her by submitting a request to the system manager specified above.

Record Source Categories: Information in this system comes solely from responding farmers and ranchers.

Exemptions Claimed for the System: None.

[FR Doc. E9-9482 Filed 4-24-09; 8:45 am]

BILLING CODE 3410-01-P